DEPARTMENT OF HEALTH AND HUMAN SERVICES

Centers for Medicare & Medicaid Services

[Document Identifier: CMS-1880 and CMS-1882]

Agency Information Collection Activities: Proposed Collection; Comment Request

AGENCY: Centers for Medicare & Medicaid Services. HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension without change of a currently approved collection; Title of Information Collection: Certification as a Supplier of Portable X-Ray and Portable X-Ray Survey Report Form and Supporting Regulations at 42 CFR Part 486.100-486.110; Use: CMS-1880 is utilized as an application to be completed by suppliers of portable X-ray services requesting participation in the Medicare program. This form initiates the process of obtaining a decision as to whether the conditions of coverage are met as a portable X-ray supplier. It also promotes data reduction or introduction to, and retrieval from, the Certification and Survey Provider Enhanced Reporting (CASPER) by the CMS Regional Offices (ROs).

CMS-1882 is used by the State survey agency to provide data collected during an on-site survey of a supplier of portable X-ray services to determine compliance with the applicable conditions of participation and to report this information to the Federal Government. The form is primarily a coding worksheet designed to facilitate data reduction and retrieval into the ASPEN system at the CMS ROs. The form includes basic information on compliance (i.e., met, not met, explanatory statements) and does not require any descriptive information regarding the survey activity itself. CMS has the responsibility and authority for certification decisions which are based on supplier compliance with the applicable conditions of participation. The information needed to make these decisions is available to CMS only through the use of information abstracted from the survey report form; Form Numbers: CMS-1880 (Request for Certification as a Supplier of Portable X-ray Services), CMS-1882 (Medicare/Medicaid Portable X-ray Survey Report), and OCN 0938-0027; Frequency: Occasionally; Affected Public: State, Local, or Tribal Governments; Number of Respondents: 579; Total Annual Responses: 86; Total Annual Hours: 151. (For policy questions regarding this collection contact Georgia Johnson at (410) 786-6859. For all other issues call (410) 786-1326.)

To obtain copies of the supporting statement and any related forms for the proposed paperwork collections referenced above, access CMS' Web site address at http://www.cms.hhs.gov/PaperworkReductionActof1995, or email your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by February 21, 2012:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number ____, Room C4-26-05, 7500 Security Boulevard, Baltimore, Maryland 21244-1850.

Dated: December 16, 2011.
Martique Jones,
Director, Regulations Development Group, Division B, Office of Strategic Operations and Regulatory Affairs.

[FR Doc. 2011-33101 Filed 12-22-11; 8:45 am]

BILLING CODE 4120-01-P